DEPARTMENT OF THE INTERIOR

National Park Service

[NPS-WASO-NAGPRA-NPS0032044; PPWOCRADN0-PCU00RP14.R50000]

Notice of Intent To Repatriate Cultural Items: University of Pennsylvania Museum of Archaeology and Anthropology, Philadelphia, PA

AGENCY: National Park Service, Interior.

ACTION: Notice.

SUMMARY: The University of Pennsylvania Museum of Archaeology and Anthropology, in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of Pennsylvania Museum of Archaeology and Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Pennsylvania Museum of Archaeology and Anthropology at the address in this notice by July 8, 2021.

FOR FURTHER INFORMATION CONTACT: Dr. Christopher Woods, Williams Director, University of Pennsylvania Museum of Archaeology and Anthropology, 3260 South Street, Philadelphia, PA 19104-6324, telephone (215) 898-4050, email director@pennmuseum.org.

SUPPLEMENTARY INFORMATION: Notice is here given in accordance with the Native American Graves Protection and Repatriation Act (NAGPRA), 25 U.S.C. 3005, of the intent to repatriate cultural items under the control of the University of Pennsylvania Museum of Archaeology and Anthropology, Philadelphia, PA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 12 cultural items were removed from a “sarcophagus 4 ft. below the surface” at an unidentified location near Trenton in Mercer County, NJ, by Charles C. Abbott (b. 1843-d. 1919). These 12 cultural items were donated to the Academy of Natural Sciences of Philadelphia most likely between 1876 and 1894. In 1876, Abbott removed a further 10 cultural items from a grave at an unknown location near Trenton. Subsequently, these 10 cultural items were transferred to Samuel S. Haldeman. In September 1877, Haldeman's collection, including the 10 cultural objects, was donated to the Academy of Natural Sciences of Philadelphia.

In 1936/1937, collections from the Academy of Natural Sciences of Philadelphia were loaned to the University of Pennsylvania Museum of Archaeology and Anthropology, including the above enumerated 22 cultural items, and in 1997, these 22 cultural items were gifted to the Museum. The 22 unassociated funerary objects are two pottery sherds (record numbers 97-563-337 and 97-563-6473A), 10 animal and fish bones (record number 97-563-6473B), and 10 marginella shell beads (record number 97-563-1141).

Based on archeological, consultation, historical, linguistic, oral traditional, and geographic information, the cultural items date to the Woodland Period, and they were most likely connected to the Delaware (Lenape). Today, the Delaware (Lenape) are represented by three Indian Tribes—the Delaware Nation, Oklahoma; Delaware Tribe of Indians; and the Stockbridge Munsee Community, Wisconsin (hereafter referred to as “The Tribes”).

Determinations Made by the University of Pennsylvania Museum of Archaeology and Anthropology

Officials of the University of Pennsylvania Museum of Archaeology and Anthropology have determined that:

• Pursuant to 25 U.S.C. 3001(3)(B), the 22 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Tribes.

Additional Requestors and Disposition

Lineal descendants or representatives of any Indian Tribe or Native Hawaiian organization not identified in this notice that wish to claim these cultural items should submit a written request with information in support of the claim to Dr. Christopher Woods, Williams Director, University of Pennsylvania Museum of Archaeology and Anthropology, 3260 South Street, Philadelphia, PA 19104-6324, telephone (215) 898-4050, email director@pennmuseum.org, by July 8, 2021. After that date, if no additional claimants have come forward, transfer of control of the unassociated funerary objects to The Tribes may proceed.

The University of Pennsylvania Museum of Archaeology and Anthropology is responsible for notifying The Tribes that this notice has been published.

Dated: May 25, 2021.
Melanie O'Brien,
Manager, National NAGPRA Program.

[FR Doc. 2021-11944 Filed 6-7-21; 8:45 am]

BILLING CODE 4312-52-P